FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the collection of information required to implement the Flood Mitigation Assistance program requirements.

SUPPLEMENTARY INFORMATION: The Program was created with the enactment of the National Flood Insurance Reform Act of 1994 (the Act). Section 553 of the Act authorizes a mitigation assistance program which FEMA has designated Flood Mitigation Assistance (FMA). Section 554 establishes the National Flood Mitigation Fund to provide assistance under Section 553. FMA regulations implement requirements of Section 553 and 554 of the Act.

FMA was developed to address concerns regarding repetitively or substantially damaged structures, or both, and the associated claims on the National Flood Insurance Fund. The overall goal of FMA is to fund cost-effective measures that reduce or eliminate the long-term risk of flood damage to buildings, manufactured homes, and other insurable structures.

The purpose of the planning grants is to develop or update a Flood Mitigation Plan that FEMA must approve before approving a project grant. Native American tribes or authorized tribal organizations may submit applications to the State POC or directly to the FEMA Regional Director.

The regulations outline a basic planning process with minimum standards for the Flood Mitigation Plans. Existing plans, such as those credited through the Community Rating System or those prepared in conformance with Section 322 of the Stafford Act, as amended by Section 104 of the Disaster Mitigation Act of 2000, may meet the requirements of FMA with few or no modifications. The plan should summarize the planning process, and should be reviewed periodically by the community in order to remain a viable document. Flood Mitigation Plans must be formally adopted by the legal entity submitting the plan for FEMA approval.

Collection of Information

Title: Flood Mitigation Assistance Program.

Type of Information Collection: Revisions of a currently approved collection.

OMB Number: 3067-0271.

Form Numbers: None.

Abstract: FMA Application Package. The State will use the local government's application for grant assistance to recommend to FEMA its preference for use of limited grant funds. FEMA will use the application to determine for which projects in which communities it will provide funding from among the limited annual appropriation. The application will provide FEMA sufficient information to determine whether the project meets the minimum eligibility criteria and objectively evaluate its merits.

Affected Public: State, Local, Tribal Government.

Estimated Total Annual Burden Hours: 2,069.

Estimated Cost: $36,518.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW., Room 311, Washington, DC 20472. Telephone number (202) 646-2625. FAX number (202) 646-3524.

FOR FURTHER INFORMATION CONTACT: Robert F. Shea, Mitigation Directorate, Federal Emergency Management Agency, 500 C Street, SW., Washington, DC 20472, (202) 646-3619, (facsimile) 202-646-3104 for additional information. Contact Ms. Anderson at (202) 646-2625 for copies of the proposed collection of information

Dated: July 29, 2002.
Reginald Trujillo,
Director, Program Services Division, Operations Support Directorate.

[FR Doc. 02-19754 Filed 8-5-02; 8:45 am]

BILLING CODE 6718-01-P